DEPARTMENT OF TRANSPORTATION

Federal Aviation Administration

14 CFR Part 39

[Docket No. FAA-2005-22559; Directorate Identifier 2005-NM-076-AD; Amendment 39-14879; AD 2007-01-07]

RIN 2120-AA64

Airworthiness Directives; Bombardier Model CL-600-2B19 (Regional Jet Series 100 & 440) Airplanes

AGENCY: Federal Aviation Administration (FAA), Department of Transportation (DOT).

ACTION: Final rule.

SUMMARY: The FAA is superseding an existing airworthiness directive (AD), that applies to certain Bombardier Model CL-600-2B19 (Regional Jet Series 100 & 440) airplanes. That AD currently requires repetitive inspections for cracks, sealant damage, and corrosion of the main fittings of the main landing gear (MLG), and corrective actions if necessary. This new AD reduces the compliance times for inspecting certain low-utilization airplanes, and provides a terminating action for the repetitive inspections. This AD results from a report of a cracked main fitting of the MLG. We are issuing this AD to detect and correct fatigue cracking of the main fitting of the MLG and consequent failure of the main fitting, which could result in the collapse of the MLG.

DATES: This AD becomes effective February 16, 2007.

The Director of the Federal Register approved the incorporation by reference of certain publications listed in the AD as of February 16, 2007.

On October 21, 2004 (69 FR 59790, October 6, 2004), the Director of the Federal Register approved the incorporation by reference of Bombardier Alert Service Bulletin A601R-32-099, including Appendices A, B, and D, and excluding Appendix C, dated September 15, 2004.

ADDRESSES: You may examine the AD docket on the Internet at http://dms.dot.gov or in person at the Docket Management Facility, U.S. Department of Transportation, 400 Seventh Street, SW., Nassif Building, Room PL-401, Washington, DC.

Contact Bombardier, Inc., Canadair, Aerospace Group, P.O. Box 6087, Station Centre-ville, Montreal, Quebec H3C 3G9, Canada, for service information identified in this AD.

FOR FURTHER INFORMATION CONTACT: Richard Beckwith, Aerospace Engineer, Airframe and Propulsion Branch, ANE-171, FAA, New York Aircraft Certification Office, 1600 Stewart Avenue, suite 410, Westbury, New York 11590; telephone (516) 228-7302; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2004-20-09, amendment 39-13814 (69 FR 59790, October 6, 2004). The existing AD applies to certain Bombardier Model CL-600-2B19 (Regional Jet Series 100 & 440) airplanes. That NPRM was published in the Federal Register on July 12, 2006 (71 FR 39237). That NPRM proposed to continue to require repetitive inspections for cracks, sealant damage, and corrosion of the main fittings of the main landing gear (MLG), and corrective actions if necessary. That NPRM also proposed to reduce the compliance times for inspecting certain low-utilization airplanes, and to provide a terminating action for the repetitive inspections.

Comments

We provided the public the opportunity to participate in the development of this AD. We have considered the comments that have been received on the NPRM.

Request To Change Incorporation of Certain Information

The Modification and Replacement Parts Association (MARPA) states that, typically, airworthiness directives are based on service information originating with the type certificate holder or its suppliers. MARPA adds that manufacturer service documents are privately authored instruments generally having copyright protection against duplication and distribution. MARPA notes that when a service document is incorporated by reference into a public document, such as an airworthiness directive, it loses its private, protected status and becomes a public document. MARPA adds that if a service document is used as a mandatory element of compliance, it should not simply be referenced, but should be incorporated into the regulatory document; by definition, public laws must be public, which means they cannot rely upon private writings. MARPA is concerned that the failure to incorporate essential service information could result in a court decision invalidating the AD.

MARPA adds that incorporated by reference service documents should be made available to the public by publication in the Docket Management System (DMS), keyed to the action that incorporates them. MARPA notes that the stated purpose of the incorporation by reference method is brevity, to keep from expanding the Federal Register needlessly by publishing documents already in the hands of the affected individuals; traditionally, “affected individuals” means aircraft owners and operators, who are generally provided service information by the manufacturer. MARPA adds that a new class of affected individuals has emerged, since the majority of aircraft maintenance is now performed by specialty shops instead of aircraft owners and operators. MARPA notes that this new class includes maintenance and repair organizations, component servicing and repair shops, parts purveyors and distributors, and organizations manufacturing or servicing alternatively certified parts under section 21.303 (“Parts Manufacturer Approval”) of the Federal Aviation Regulations (14 CFR part 21). MARPA adds that the concept of brevity is now nearly archaic as documents exist more frequently in electronic format than on paper. Therefore, MARPA asks that the service documents deemed essential to the accomplishment of the NPRM be incorporated by reference into the regulatory instrument, and published in the DMS.

We understand MARPA's comment concerning incorporation by reference. The Office of the Federal Register (OFR) requires that documents that are necessary to accomplish the requirements of the AD be incorporated by reference during the final rule phase of rulemaking. This final rule incorporates by reference the documents necessary for the accomplishment of the requirements mandated by this AD. Further, we point out that while documents that are incorporated by reference do become public information, they do not lose their copyright protection. For that reason, we advise the public to contact the manufacturer to obtain copies of the referenced service information.

Additionally, we do not publish service documents in DMS. We are currently reviewing our practice of publishing proprietary service information. Once we have thoroughly examined all aspects of this issue, and have made a final determination, we will consider whether our current practice needs to be revised. However, we consider that to delay this AD action for that reason would be inappropriate, since we have determined that an unsafe condition exists and that the requirements in this AD must be accomplished to ensure continued safety. Therefore, we have not changed the AD in this regard.

Request To Reference Parts Manufacturer Approval (PMA) Parts

MARPA also states that type certificate holders in their service documents typically ignore the possible existence of PMA parts. MARPA states that this is particularly true with foreign manufacturers where the concept may not exist or be implemented in the country of origin. MARPA points out that the service document upon which an airworthiness directive is based frequently will require removing a certain part-numbered part and installing a different part-numbered part as a corrective action. According to MARPA, this runs afoul of section 21.303, which permits the development, certification, and installation of alternatively certified parts.

MARPA further states that installing a certain part-numbered part to the exclusion of all other parts is not a favored general practice. MARPA states that such an action has the dual effect of preventing, in some cases, the installation of a perfectly good part; while at the same time prohibiting the development of new parts permitted under section 21.303. According to MARPA, such a prohibition runs the risk of taking the AD out of the realm of safety and into the world of economics, since prohibiting the development, sale, and use of a perfectly airworthy part has nothing to do with safety. MARPA states that courts could easily construe such actions as being outside the statutory basis of the AD (safety) and, as such, unenforceable. MARPA adds that courts are reluctant to find portions of a rule unenforceable since they lack the knowledge and authority to re-write requirements, and are thus generally inclined to simply void the entire rule.

In response to the commenter's statement regarding running afoul of section 21.303, under which the FAA issues PMAs, this statement appears to reflect a misunderstanding of the relationship between ADs and the certification procedural regulations of 14 CFR part 21. Those regulations, including section 21.303, are intended to ensure that aeronautical products comply with the applicable airworthiness standards. But ADs are issued when, notwithstanding those procedures, we become aware of unsafe conditions in these products or parts. Therefore, an AD takes precedence over design approvals when we identify an unsafe condition, and mandating installation of a certain part number in an AD is not at variance with section 21.303.

The AD provides a means of compliance for operators to ensure that the identified unsafe condition is addressed appropriately. For an unsafe condition attributable to a part, the AD normally identifies the replacement parts necessary to obtain that compliance. As stated in section 39.7 of the Federal Aviation Regulations (14 CFR 39.7), “Anyone who operates a product that does not meet the requirements of an applicable airworthiness directive is in violation of this section.” Unless an operator obtains approval for an alternative method of compliance (AMOC), replacing a part with one not specified by the AD would make the operator subject to an enforcement action and result in a civil penalty. No change to the AD is necessary in this regard.

Request To Stop Using AMOC

MARPA also believes that the practice of requiring an AMOC to install a PMA part should be stopped. MARPA states that this is somehow tantamount to stating, illogically, that all PMA parts are inherently defective and require an additional layer of approval when the original equipment manufacturer (OEM) part is determined to be defective. MARPA suspects that the FAA personnel who labored diligently to certify the PMA part might disagree with such a narrow, OEM-slanted view. MARPA states that if the PMA part is defective, then it must be deemed so in the AD, and not simply implied by a catch-all AMOC requirement. MARPA states that this is why it has repeatedly requested that we adopt language to trap such defective parts, and suggests that the FAA's Transport Airplane Directorate adopt the language used by the Small Airplane Directorate to accomplish this.

We infer that MARPA would like the AD to permit installation of any equivalent PMA parts so that it is not necessary for an operator to request approval of an AMOC in order to install an “equivalent” PMA part. Whether an alternative part is “equivalent” in adequately resolving the unsafe condition can only be determined on a case-by-case basis based on a complete understanding of the unsafe condition. The Transport Airplane Directorate's policy is that, in order for operators to replace a part with one that is not specified in the AD, they must request an AMOC. This is necessary so that we can make a specific determination that an alternative part is or is not susceptible to the same unsafe condition. No change to the AD is necessary in this regard.

Request for Compliance With FAA Order 8040.2/Agreement on Parts Replacement

MARPA points out that this AD, as written, does not comply with proposed Order 8040.2 (AD Process for Mandatory Continuing Airworthiness Information (MCAI)), which states in the PMA section: “MCAI that require replacement or installation of certain parts could have replacement parts approved under 14 CFR § 21.303 based on a finding of identicality. We have determined that any parts approved under this regulation and installed should be subject to the actions of our AD and included in the applicability of our AD.” MARPA points out that the Small Airplane Directorate has developed a blanket statement that resolves this issue. The statement includes words similar to those in the proposed Order 8040.2.

MARPA also points out that the Engine and Rotocraft Directorates avoid the issue by specifying “airworthy parts” be installed, leaving the determination of exactly which parts to the discretion of the installer.

MARPA further states that because the NPRM differs markedly in treatment of this issue from that of the other directorates, the mandates contained in Section 1, paragraph (b)(10) of Executive Order 12866 are not being met. This paragraph requires that all agencies act uniformly on a given issue. MARPA therefore requests that we take steps to bring the universe of PMA parts under the appropriate scope of this AD both with respect to possible defective PMA parts and the use of possible present or future approved parts.

The NPRM did not address PMA parts, as provided in draft FAA Order 8040.2, because the Order was only a draft that was out for comment at the time. After issuance of the NPRM, the Order was revised and issued as FAA Order 8040.5 with an effective date of September 29, 2006. FAA Order 8040.5 does not address PMA parts in ADs. We acknowledge the need to ensure that unsafe PMA parts are identified and addressed in MCAI-related ADs. We are currently examining all aspects of this issue, including input from industry. Once we have made a final determination, we will consider how our policy regarding PMA parts in ADs needs to be revised. We consider that to delay this AD action would be inappropriate, since we have determined that an unsafe condition exists and that replacement of certain parts must be accomplished to ensure continued safety. Therefore, no change has been made to the final rule in this regard.

Clarification of Paragraphs (i) and (k) of the Final Rule

We have changed paragraphs (i) and (k) of the final rule to specify more clearly if operators choose to do the terminating action after finding a crack indication, the terminating action must be done before further flight.

Conclusion

We have carefully reviewed the available data, including the comments received, and determined that air safety and the public interest require adopting the AD with the changes described previously. We have determined that these changes will neither increase the economic burden on any operator nor increase the scope of the AD.

Costs of Compliance

The following table provides the estimated costs for U.S. operators to comply with this AD. There are approximately 201 U.S.-registered airplanes. The average labor rate is $80 per hour.

Estimated Costs
Action | Work hours | Parts | Cost per airplane | Fleet cost
Detailed inspection for cracks of the main fitting (required by AD 2004-20-09) | 1 | N/A | $80, per inspection cycle | $16,080 per inspection cycle.
Detailed inspection for sealant damage of the bushing (required by AD 2004-20-09) | 1 | N/A | $80, per inspection cycle | $16,080 per inspection cycle.
Ultrasonic inspection for cracks of the main fittings (required by AD 2004-20-09) | 1 | N/A | $80, per inspection cycle | $16,080, per inspection cycle.
Replacement (new action) | 56 | $105,732 | $110,212 | $22,152,612.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13814 (69 FR 59790, October 6, 2004) and by adding the following new airworthiness directive (AD):

2007-01-07 BOMBARDIER, INC. (Formerly Canadair): Amendment 39-14879. Docket No. FAA-2005-22559; Directorate Identifier 2005-NM-076-AD.

Effective Date

(a) This AD becomes effective February 16, 2007.

Affected ADs

(b) This AD supersedes AD 2004-20-09.

Applicability

(c) This AD applies to Bombardier Model CL-600-2B19 (Regional Jet Series 100 & 440) airplanes, certificated in any category; serial numbers 7003 through 7067 inclusive, and 7069 through 8999 inclusive; equipped with main landing gear (MLG) main fittings, having part number (P/N) 601R85001-3 or -4 (Messier-Dowty P/N 17064-101, -102, -103, or -104).

Unsafe Condition

(d) This AD results from a report of a cracked main fitting of the MLG. We are issuing this AD to detect and correct fatigue cracking of the main fitting of the MLG and consequent failure of the main fitting, which could result in the collapse of the MLG.

Compliance

(e) You are responsible for having the actions required by this AD performed within the compliance times specified, unless the actions have already been done.

Service Bulletin

(f) Unless otherwise specified in this AD, the term “service bulletin,” as used in this AD, means the Accomplishment Instructions of the applicable service bulletin identified in paragraph (f)(1) or (f)(2) of this AD.

(1) For the actions specified in paragraphs (g), (h), (i), (j), and (k) of this AD: Bombardier Alert Service Bulletin A601R-32-099, including Appendices A, B, and D, and excluding Appendix C, dated September 15, 2004; or Bombardier Alert Service Bulletin A601R-32-099, Revision A, including Appendices A, B, and D, and excluding Appendix C, dated December 13, 2004; or Bombardier Alert Service Bulletin A601R-32-099, Revision B, dated June 16, 2005, including Appendices A, B, and D, and excluding Appendix C, Revision A, dated December 13, 2004.

(2) For the actions specified in paragraph (l) of this AD: Bombardier Service Bulletin 601R-32-093, Revision B, dated July 14, 2005.

(3) After the effective date of this AD, only Revision B of Bombardier Alert Service Bulletin A601R-32-099, dated July 16, 2005, may be used for the actions specified in paragraphs (g), (h), (i), (j), and (k) of this AD.

(4) Although the service bulletins identified in paragraph (f)(1) of this AD specify to submit certain information to the airplane manufacturer and to return cracked main fittings to the supplier, this AD does not include those requirements.

Restatement of the Requirements of AD 2004-20-09

Initial Inspections at New Reduced Compliance Times

(g) Do the actions in Table 1 of this AD.

Table 1.—Initial Inspection Thresholds at New Reduced Compliance Times
Do the following in Column 1—: Column 1— | At the earlier of the times specified in Column 2 or Column 3—: Column 2—The latest of— | At the earlier of the times specified in Column 2 or Column 3—: Column 3—The latest of—
(1) A detailed inspection for cracks of the inboard and outboard sides of the main fitting of the MLG between the pintle pin trunnion and the radius of the shock strut lug, in accordance with Part A of the applicable service bulletin | (i)(A) Before the accumulation of 8,000 total flight cycles since the main fitting of the MLG was new. (B) Within 8,000 flight cycles since the last overhaul of the MLG done before the effective date of this AD. (C) Within 50 flight cycles after October 21, 2004 (the effective date of AD 2004-20-09). | (ii)(A) Within 48 months since the main fitting of the MLG was new. (B) Within 48 months since the last overhaul of the MLG done before the effective date of this AD. (C) Within 50 flight cycles after the effective date of this AD.
(2) A detailed inspection for sealant damage or corrosion around the forward bushing of the left and right main fittings of the MLG, in accordance with Part B of the applicable service bulletin | (i)(A) Before the accumulation of 8,000 total flight cycles since the main fitting of the MLG was new. (B) Within 8,000 flight cycles since the last overhaul of the MLG done before the effective date of this AD. (C) Within 500 flight cycles after October 21, 2004. | (ii)(A) Within 48 months since the main fitting of the MLG was new. (B) Within 48 months since the last overhaul of the MLG done before the effective date of this AD. (C) Within 500 flight cycles or 6 months after the effective date of this AD, whichever occurs first.
(3) An ultrasonic inspection for cracks of the left and right main fittings of the MLG, in accordance with Part C of the applicable service bulletin | (i)(A) Before the accumulation of 8,000 total flight cycles since the main fitting of the MLG was new. (B) Within 8,000 flight cycles, since the last overhaul of the MLG done before the effective date of this AD. (C) Within 500 flight cycles after October 21, 2004. | (ii)(A) Within 48 months since the main fitting of the MLG was new. (B) Within 48 months since the last overhaul of the MLG done before the effective date of this AD. (C) Within 500 flight cycles or 6 months after the effective date of this AD, whichever occurs first.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Repetitive Inspections

(h) Repeat the inspections in paragraph (g) of this AD thereafter at the applicable interval in paragraph (h)(1) or (h)(2) of this AD, until the terminating action required by paragraph (l) of this AD is accomplished.

(1) For airplanes on which the applicable initial inspection in paragraph (g) of this AD has been done before the effective date of this AD, do the next inspection at the applicable interval in Table 2 of this AD.

(2) For airplanes on which the applicable initial inspection in paragraph (g) of this AD has not been done before the effective date of this AD, repeat the inspection at the applicable interval in Table 2 of this AD.

Table 2.—Repetitive Inspections at New Intervals
For the inspection required by— | Repeat at intervals not to exceed— | Until the action required by—
(3) Paragraph (g)(1) of this AD | 5 days | Paragraph (g)(3) of this AD is done, unless required by paragraph (j) of this AD.
(4) Paragraph (g)(2) of this AD | 500 flight cycles or 6 months, whichever occurs first | Paragraph (j)(2) of this AD is done.
(5) Paragraph (g)(3) of this AD | 5,000 flight cycles or 30 months, whichever occurs first, except as required by paragraph (j)(2) of this AD | (None).

Corrective Actions

(i) If there is an indication of a crack during any inspection required by paragraph (g)(1), (h)(3), or (j)(1) of this AD, before further flight, do the actions specified in paragraph (i)(1) or (i)(2) of this AD in accordance with part A of the applicable service bulletin; or do the terminating action required by paragraph (l) of this AD before further flight.

(1) Replace the cracked main fitting of the MLG with a new or serviceable main fitting.

(2) Do an eddy current inspection to verify whether there is a crack. If there is a crack, replace the cracked main fitting of the MLG with a new or serviceable main fitting.

(j) If any sealant damage or corrosion is found during any inspection required by either paragraph (g)(2) or (h)(4) of this AD, do the actions specified in Table 3 of this AD in accordance with part B of the applicable service bulletin, until the terminating action required by paragraph (l) of this AD is accomplished.

Table 3.—Corrective Actions for Sealant Damage or Corrosion
Do the inspection specified in— | Within— | Repeat at intervals not to exceed— | Until the action specified in—
(1) Paragraph (g)(1) of this AD | 5 days after doing the inspection required by (g)(2) or (h)(4) of this AD, as applicable | 5 days | Paragraph (j)(2) or (l) of this AD is done.
(2) Paragraph (g)(3) of this AD | 500 flight cycles after doing the inspection required by paragraph (g)(2) or (h)(4) of this AD, as applicable | 500 flight cycles | Paragraph (l) of this AD is done.

(k) If there is an indication of a crack during any inspection required by paragraph (g)(3) or (h)(5) of this AD, before further flight, replace the cracked main fitting of the MLG with a new or serviceable main fitting in accordance with part C of the applicable service bulletin; or do the terminating action required by paragraph (l) of this AD before further flight.

New Requirement of This Ad

Terminating Action—Replacement

(l) Within 15 months after the effective date of this AD, replace both main fittings of the MLG with new main fittings having new part numbers, in accordance with the Accomplishment Instructions of Bombardier Service Bulletin 601R-32-093, Revision B, dated July 14, 2005. Doing this replacement terminates all requirements of paragraphs (g), (h), (i), (j), and (k) of this AD.

Note 2: Bombardier Service Bulletin 601R-32-093, Revision B, refers to Messier-Dowty Service Bulletin M-DT SB17002-32-24, dated October 9, 2003; and Messier-Dowty Service Bulletin M-DT SB17002-32-25, Revision 1, dated October 17, 2003; as additional sources of service information for replacing the MLG main fitting.

Actions Accomplished in Accordance With Earlier Issues of Service Bulletin

(m) Actions done before the effective date of this AD in accordance with the service bulletins listed in Table 4 of this AD are acceptable for compliance with the corresponding action specified in this AD.

Table 4.—Earlier Issues of Service Bulletins
Service Bulletin | Revision level | Date
Bombardier Service Bulletin 601R-32-093 | Original | October 17, 2003.
Bombardier Service Bulletin 601R-32-093 | A | September 21, 2004.

Parts Installation

(n) As of the effective date of this AD, no person may install a main fitting of the MLG, Bombardier P/N 601R85001-3 or 601R85001-4; also referred to as Messier-Dowty P/N 17064-101, 17064-102, 17064-103, or 17064-104; on any airplane.

Alternative Methods of Compliance (AMOCs)

(o)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(p) Canadian airworthiness directive CF-2004-18R1, dated September 21, 2005, also addresses the subject of this AD.

Material Incorporated by Reference

(q) You must use the applicable service bulletin identified in Table 5 of this AD to perform the actions that are required by this AD, unless the AD specifies otherwise.

Table 5.—All Material Incorporated by Reference
Service Bulletin | Revision level | Date
Bombardier Alert Service Bulletin A601R-32-099, including Appendices A, B, and D, and excluding Appendix C | Original | September 15, 2004.
Bombardier Alert Service Bulletin A601R-32-099, including Appendices A, B, and D, and excluding Appendix C | A | December 13, 2004.
Bombardier Alert Service Bulletin A601R-32-099, including Appendices A, B, and D, and excluding Appendix C, Revision A, dated December 13, 2004 | B | June 16, 2005.
Bombardier Service Bulletin 601R-32-093 | B | July 14, 2005.

(1) The Director of the Federal Register approved the incorporation by reference of the documents identified in Table 6 of this AD in accordance with 5 U.S.C. 552(a) and 1 CFR part 51.

Table 6.—New Material Incorporated by Reference
Service Bulletin | Revision level | Date
Bombardier Alert Service Bulletin A601R-32-099, including Appendices A, B, and D, and excluding Appendix C | A | December 13, 2004.
Bombardier Alert Service Bulletin A601R-32-099, including Appendices A, B, and D, and excluding Appendix C, Revision A, dated December 13, 2004 | B | June 16, 2005.
Bombardier Service Bulletin 601R-32-093 | B | July 14, 2005.

(2) On October 21, 2004 (69 FR 59790, October 6, 2004), the Director of the Federal Register approved the incorporation by reference of Bombardier Alert Service Bulletin A601R-32-099, including Appendices A, B, and D, and excluding Appendix C, dated September 15, 2004.

(3) Contact Bombardier, Inc., Canadair, Aerospace Group, P.O. Box 6087, Station Centre-ville, Montreal, Quebec H3C 3G9, Canada, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 21, 2006.
Ali Bahrami,
Manager, Transport Airplane Directorate, Aircraft Certification Service.

[FR Doc. E7-223 Filed 1-11-07; 8:45 am]

BILLING CODE 4910-13-P